DEPARTMENT OF AGRICULTURE

Animal and Plant Health Inspection Service

[Docket No. APHIS-2020-0019]

Privacy Act of 1974; System of Records

AGENCY: Animal and Plant Health Inspection Service, USDA.

ACTION: Notice of a modified system of records.

SUMMARY: Pursuant to the Privacy Act of 1974 and Office of Management and Budget Circular No. A-108, the U.S. Department of Agriculture (USDA) gives notice that a component agency, the Animal and Plant Health Inspection Service (APHIS), proposes to modify an existing system of records notice titled LabWare Laboratory Information Management System (LabWare LIMS), USDA/APHIS-19. Among other changes, the system will be renamed National Veterinary Services Laboratories' Laboratory Information Management System (NVSL-LIMS), USDA/APHIS-19. NVSL-LIMS is a laboratory information system that tracks and saves test results on animal diagnostic samples received at the National Veterinary Services Laboratories.

DATES: In accordance with 5 U.S.C. 552a(e)(4) and (11), this notice is applicable upon publication, subject to a 30-day notice and comment period in which to comment on the routine uses described below. Please submit any comments by December 29, 2021.

ADDRESSES: You may submit comments by either of the following methods:

• Federal eRulemaking Portal: Go to http://www.regulations.gov. Enter APHIS-2020-0019 in the Search field. Select the Documents tab, then select the comment button in the list of documents.

• Postal Mail/Commercial Delivery: Send your comment to Docket No. APHIS-2020-0019, Regulatory Analysis and Development, PPD, APHIS, Station 3A-03.8, 4700 River Road, Unit 118, Riverdale, MD 20737-1238.

Supporting documents and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Dr. Suelee Robbe-Austerman, Director, National Veterinary Services Laboratories, 1920 Dayton Ave., Ames, IA 50010; (515) 337-7301; email: Suelee.Robbe-Austerman@usda.gov. For Privacy Act questions concerning this system of records notice, please contact Ms. Tonya Woods, Director, Freedom of Information Act and Privacy Act Staff, 4700 River Road, Unit 50, Riverdale, MD 20737; (301) 851-4076. For USDA Privacy Act questions, please contact the USDA Chief Privacy Officer, Information Security Center, Office of Chief Information Officer, USDA, Jamie L. Whitten Building, 1400 Independence Ave. SW, Washington, DC 20250; email: USDAPrivacy@usda.gov.

SUPPLEMENTARY INFORMATION: The U.S. Department of Agriculture (USDA) Animal and Plant Health Inspection Service (APHIS) is modifying an existing system of records notice, LabWare Laboratory Information Management System (LabWare LIMS), USDA/APHIS-19, which was last published in its entirety in the Federal Register on October 1, 2013 (78 FR 60245-60248, Docket No. APHIS-2012-0039).¹ APHIS is modifying the system of records notice to rename the system as “National Veterinary Services Laboratories' Laboratory Information Management System (NVSL-LIMS).” (Note that references to the system may appear as LIMS, Veterinary Services (VS) LIMS, or NVSL-LIMS.) APHIS is also expanding the system to include records of activities conducted by regulated entities and the agency pursuant to those activities authorized by the Animal Health Protection Act (7 U.S.C. 8301 et seq.) and the regulations issued thereunder.

¹ To view the notice, go to www.regulations.gov and enter APHIS-2012-0039 in the Search field.

APHIS is making the following changes to the system of records notice:

• Updating the system location;

• Updating the purposes of the system;

• Expanding the categories of individuals to include any approved non-USDA veterinarian coordinating with USDA to protect animal health. This includes, but is not limited to State, Tribal, and local government veterinarians. We are also specifying the USDA employees who enter data as those who are NVSL employees;

• Expanding the categories of records to include reference to USDA employees in addition to NVSL employees; identification of sample collector; specific information identifying the animal being tested; relevant dates (dates of collection, testing, submission, etc.); tracking of agents, toxins or reagents); and other information as required depending on the tests being conducted and sample source(s). For instance, tuberculosis sample information will include the names of the food inspector, veterinarian, and market buyer; the market buyer's address, city, State, Zip code, and country; the lot number and number in the lot; number of lesions; and slaughter date;

• Updating the policies and practices for storage, retrievability, and retention and disposal of records in the system;

• Updating the system safeguards;

• Updating the notification, record access, and contesting record procedures;

• Revising, deleting, redesignating, and establishing routine uses as follows:

○ Revising current routine use 1 for clarity;

○ Revising current routine use 2. The changes are editorial and intended to more accurately describe the referral of records to appropriate law enforcement agencies, entities, and persons;

○ Revising current routine use 3. The changes are editorial and conforming changes;

○ Revising current routine use 4. The changes are editorial and intended to more accurately describe the disclosure of records to a court or adjudicative body;

○ Revising current routine use 5 for disclosure to appropriate agencies, entities and persons of information necessary to respond to a suspected or confirmed breach of the system of records in accordance with Office of Management and Budget (OMB) Memorandum M-17-12, Preparing for and Responding to a Breach of Personally Identifiable Information (January 3, 2017);

○ Redesignating current routine use 6 as routine use 9, and revising to more accurately reflect where record management inspections may occur;

○ Establishing a new routine use 6 for disclosure to another Federal agency or entity of information reasonably necessary to assist in responding to a suspected or confirmed breach or to prevent, minimize, or remedy harm, in accordance with OMB Memorandum M-17-12 (Preparing for and Responding to a Breach of Personally Identifiable Information);

○ Establishing a new routine use 7 for disclosure to contractors and other parties assisting in administering the program, analyzing data, information management systems, Freedom of Information Act requests, and audits to assist in the performance of a service related to this system of records and who need to have access to the records in order to perform the activity; and

○ Establishing a new routine use 8 to describe disclosure to a Congressional office in response to an inquiry made to that Congressional office at the written request of the individual to whom the record pertains.

A report on the modified system of records, required by 5 U.S.C. 552a(r), as implemented by OMB Circular A-108 was sent to the Chairman, Committee on Homeland Security and Governmental Affairs, United States Senate; the Chairwoman, Committee on Oversight and Reform, House of Representatives; and the Administrator, Office of Information and Regulatory Affairs, OMB.

Done in Washington, DC, this 22nd day of November 2021.
Jack Shere,
Acting Administrator, Animal and Plant Health Inspection Service.

SYSTEM NAME AND NUMBER:

National Veterinary Services Laboratories' Laboratory Information Management System (USDA/APHIS-19).

SECURITY CLASSIFICATION:

Sensitive but unclassified.

SYSTEM LOCATION:

Records are maintained at National Veterinary Services Laboratories (NVSL) on U.S. Department of Agriculture (USDA)-owned servers physically located in the secure USDA-owned facility, National Centers for Animal Health, 1920 Dayton Avenue, Ames, IA 50010. Paper records are maintained by USDA's National Veterinary Services Laboratories, 1920 Dayton Avenue, Ames, IA 50010, and Plum Island, NY.

SYSTEM MANAGER:

Director, National Veterinary Services Laboratories, 1920 Dayton Avenue, Ames, IA 50010.

AUTHORITY FOR MAINTENANCE OF THE SYSTEM:

Animal Health Protection Act (7 U.S.C. 8301 et seq.).

PURPOSES OF THE SYSTEM:

NVSL-LIMS is used to collect, track, and store test results on animal diagnostic samples received at NVSL pursuant to its mission and responsibilities authorized by the Animal Health Protection Act. The system will also allow for NVSL to provide quality management and complaint resolution for those test results that may contain errors or do not satisfy the customer. (Note that references to the system may appear as LIMS, Veterinary Services (VS) LIMS, or NVSL-LIMS.)

CATEGORIES OF INDIVIDUALS COVERED BY THE SYSTEM:

Individuals included in this system include entities such as sample submitters, animal owners, NVSL or USDA personnel who handle the submission, and any approved non-USDA veterinarians coordinating with USDA to protect animal health. This includes, but is not limited to State, Tribal, and local government veterinarians.

CATEGORIES OF RECORDS IN THE SYSTEM:

Records in the system include, but are not limited to, the sample submitter name, address, email address, telephone number, and mailing address; animal owner name, address, city, State or country, and Zip code, along with location and number of animals, herd or flock size (including affected or dead); National Finance Center account number used to pay for sample processing; last four digits of credit card account number with expiration date used to pay for sample processing; check number used to pay for sample processing; and contact information for the NVSL/USDA employee who tested a sample or reviewed a test (name, job title, email, telephone number, organizational group to which the employee belongs, and supervisor). Information about slaughter establishments will include, but is not limited to, the establishment identification, name, address, city, State or country, Zip code, email address, and telephone/fax numbers. Records will also include details concerning diagnostic test information such as disease, relevant dates, tests requested, identification of sample collector, tracking (agents, toxins or reagents), and specific information identifying the animal being tested, and other information as required depending on the tests being conducted and sample source(s). For instance, tuberculosis sample information will include such items as, but not limited to, the names of the food inspector, veterinarian, and market buyer; the market buyer's address, city, State, Zip code, and country; the lot number, number in the lot, number of lesions, and slaughter date.

RECORD SOURCE CATEGORIES:

The sources of information in the system are from submission forms that accompany laboratory specimens sent to the laboratory for diagnostic testing. NVSL receives submissions from various entities such as, but not limited to, State and private veterinary diagnostic laboratories as well as private veterinary practitioners, Federal meat inspectors, and Federal field veterinarians. In addition, NVSL receives laboratory samples from other countries associated with importations and for cases where diagnostic assistance is requested.

ROUTINE USES OF RECORDS MAINTAINED IN THE SYSTEM, INCLUDING CATEGORIES OF USERS AND PURPOSES OF SUCH USES:

In addition to those disclosures generally permitted under 5 U.S.C. 552a (b) of the Privacy Act, records contained in the system may be disclosed outside USDA as a routine use under 5 U.S.C. 552a(b)(3), to the extent that such uses are compatible with the purposes for which the information was collected. Such permitted routine uses include the following:

(1) To the submitting veterinarian and government (State, Tribal, local, etc.) animal health officials of the submitter, owner, and animal location to provide test results;

(2) When a record on its face, or in conjunction with other records, indicates a violation or potential violation of law, whether civil, criminal, or regulatory in nature, and whether arising by general statute or particular program, statute, or by regulation, rule, or order issued pursuant thereto, disclosure may be made to the appropriate agency, whether Federal, foreign, State, Tribal, local, or other public authority responsible for enforcing, investigating, or prosecuting such violation or charged with enforcing or implementing the statute, or rule, regulation, or order issued pursuant thereto, if the information disclosed is relevant to any enforcement, regulatory, investigative, or prosecutive responsibility of the receiving entity;

(3) To the Department of Justice when: (a) USDA or any component thereof; or (b) any employee of USDA in his or her official capacity, where the Department of Justice has agreed to represent the employee; or (c) the United States Government, is a party to litigation or has an interest in such litigation, and USDA determines that the records are relevant and necessary to the litigation and the use of such records by the Department of Justice is for a purpose that is compatible with the purpose for which USDA collected the records;

(4) In an appropriate proceeding before a court, grand jury, or administrative or adjudicative body or official, when USDA or other Agency representing USDA determines that the records are relevant and necessary to the proceeding; or in an appropriate proceeding before an administrative or adjudicative body when the adjudicator determines the records to be relevant to the proceeding;

(5) To appropriate agencies, entities, and persons when: (a) USDA suspects or has confirmed that the security or confidentiality of information in the system of records has been compromised; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

(6) To another Federal agency or Federal entity, when information from this system of records is reasonably necessary to assist the recipient agency or entity in (a) responding to a suspected or confirmed breach or (b) preventing, minimizing, or remedying the risk of harm to individuals, the agency (including its information systems, programs, and operations), the Federal Government, or national security;

(7) To contractors and their agents, grantees, experts, consultants, and others performing or working on a contract, service, grant, cooperative agreement, or other assignment for the USDA, when necessary to accomplish an agency function related to this system of records;

(8) To a Congressional office in response to an inquiry from that Congressional office made at the written request of the individual about whom the record pertains; and

(9) To the National Archives and Records Administration (NARA) or other Federal Government agencies pursuant to records management inspections being conducted under the authority of 44 U.S.C. 2904 and 2906.

DISCLOSURE TO CONSUMER REPORTING AGENCIES:

None.

POLICIES AND PRACTICES FOR STORAGE OF RECORDS:

The system includes a database and paper records. The master electronic data is stored and maintained on USDA servers located in a secure USDA facility. Paper records, consisting of the submission forms for diagnostic samples, are stored in lockable cabinets or lockable areas within the laboratory spaces or administrative offices in a secure USDA facility.

POLICIES AND PRACTICES FOR RETRIEVAL OF RECORDS:

Data may be retrieved by an accession number, which is a system generated unique identification number; by a sample number assigned by the sample submitter; NFC account number; or by searching LIMS for data contained in the submission such as a submitter's name.

POLICIES AND PRACTICES FOR RETENTION AND DISPOSAL OF RECORDS:

Records will be retained indefinitely pending approval of a records retention schedule by NARA. Under the schedule submitted for NARA approval, paper records would be retained for a minimum of 3 years, data would be maintained in the system for 25 years and would be archived at 5-year intervals.

ADMINISTRATIVE, TECHNICAL, AND PHYSICAL SAFEGUARDS:

Records in this system are safeguarded in accordance with applicable rules and policies, including all applicable USDA automated systems security and access policies. Strict controls have been imposed to minimize the risk of compromising the information that is being stored. Access to the computer system containing the records in this system is limited to those individuals who have a need to know the information for the performance of their official duties and who have appropriate clearances or permissions. Access to certain portions of the system requires certain levels of authorization through USDA eAuthentication, which is a system that enables individuals to obtain user-identification accounts with password-protected access to certain USDA Web-based applications and services through the internet. APHIS personnel who input data must have a high-level eAuthentication account. Users are trained and are required to formally confirm that they understand value and sensitivity of data in the system, and users receive formal system training and are required to pass a proficiency test before being given access to the system. Persons who are not USDA employees have a lower level eAuthentication account and will only have access to their own records to input certain information.

RECORD ACCESS PROCEDURES:

All requests for access to records must be in writing and should be submitted to the APHIS Privacy Act Officer, 4700 River Road, Unit 50, Riverdale, MD 20737; or by facsimile (301) 734-5941; or by email: APHISPrivacy@usda.gov. In accordance with 7 CFR 1.112 (Procedures for requests pertaining to individual records in a record system), the request must include the full name of the individual making the request; the name of the system of records; and preference of inspection, in person or by mail. In accordance with 7 CFR 1.113, prior to inspection of the records, the requester shall present sufficient identification (e.g., driver's license, employee identification card, Social Security card, credit cards) to establish that the requester is the individual to whom the records pertain. In addition, if an individual submitting a request for access wishes to be supplied with copies of the records by mail, the requester must include with his or her request sufficient data for the agency to verify the requester's identity.

CONTESTING RECORD PROCEDURES:

Individuals seeking to contest or amend records maintained in this system of records must direct their request to the address indicated above in the “RECORD ACCESS PROCEDURES” paragraph and must follow the procedures set forth in 7 CFR 1.116 (Request for correction or amendment to record). All requests must state clearly and concisely what record is being contested, the reasons for contesting it, and the proposed amendment to the record.

NOTIFICATION PROCEDURES:

Individuals may be notified if a record in this system of records pertains to them when the individuals request information utilizing the same procedures as those identified in the “RECORD ACCESS PROCEDURES” paragraph above.

EXEMPTIONS PROMULGATED FOR THE SYSTEM:

None.

HISTORY:

On October 1, 2013, (78 FR 60245-60248, Docket No. APHIS-2012-0039), USDA/APHIS-19, “LabWare Laboratory Information Management System (LabWare LIMS),” was published as a new system of records and effective on November 12, 2013.

[FR Doc. 2021-25859 Filed 11-26-21; 8:45 am]

BILLING CODE 3410-34-P